ENVIRONMENTAL PROTECTION AGENCY

40 CFR Part 52

[EPA-R02-OAR-2018-0817; FRL-9994-39-Region 2]

Approval of Source Specific Air Quality Implementation Plans; New Jersey

AGENCY: Environmental Protection Agency.

ACTION: Final rule.

SUMMARY: The Environmental Protection Agency (EPA) is approving a revision to the New Jersey State Implementation Plan (SIP) for the 2008 8-hour ozone National Ambient Air Quality Standard in relation to a Source Specific SIP for Gerdau Ameristeel in Sayreville, New Jersey. On December 5, 2018, the New Jersey Department of Environmental Protection approved an administrative amendment reflecting new ownership and name change to Commercial Metals Company. The control options in the Source Specific SIP that address nitrogen oxide Reasonably Available Control Technology for the natural gas fired billet reheat furnace remain the same under the new ownership. The intended effect of this SIP revision is for the Sayreville facility to continue to operate under their facility specific maximum allowable nitrogen oxide emission rate. The affected source will not increase hourly nitrogen oxide emissions, therefore, the National Ambient Air Quality Standards for ozone is protected.

DATES: The final rule is effective on July 1, 2019.

ADDRESSES: The EPA has established a docket for this action under Docket ID Number EPA-R02-OAR-2018-0817. All documents in the docket are listed on the http://www.regulations.gov website. Although listed in the index, some information is not publicly available, e.g., Confidential Business Information (CBI) or other information whose disclosure is restricted by statute. Certain other material, such as copyrighted material, is not placed on the internet and will be publicly available only in hard copy form. Publicly available docket materials are available electronically through http://www.regulations.gov.

FOR FURTHER INFORMATION CONTACT: Linda Longo, Air Programs Branch, Environmental Protection Agency, 290 Broadway, 25th Floor, New York, New York 10007-1866, (212) 637-3565, or by email at longo.linda@epa.gov.

SUPPLEMENTARY INFORMATION:

Table of Contents

I. Background

II. The EPA's Evaluation of New Jersey's Submittals

III. Comments Received in Response to EPA's Proposed Action

IV. Summary of EPA Final Action

V. Incorporation by Reference

VI. Statutory and Executive Order Reviews

I. Background

The Environmental Protection Agency (EPA) is approving the revision to the New Jersey State Implementation Plan (SIP) for attainment and maintenance of the 2008 ozone National Ambient Air Quality Standard (NAAQS). Specifically, under New Jersey Administrative Code, Title 7, Chapter 27, Subchapter 19, “Control and Prohibition of Air Pollution from Oxides of Nitrogen” (N.J.A.C. 7:27-19). The New Jersey Department of Environmental Protection (NJDEP) reviewed and approved the facility specific emission limit (FSEL) nitrogen oxide (NOX) control plan and the associated Reasonably Available Control Technology (RACT) for the Gerdau Ameristeel facility located in Sayreville, New Jersey (Sayreville Facility). The RACT for this SIP revision is the lowest emission limitation economically feasible for controlling NOX emissions from the Sayreville Facility's billet reheat furnace (Sayerville BRF). The Sayreville BRF is used to raise the temperature of steel billets to the required level for hot rolling.

Subchapter N.J.A.C. 7:27-19.13(a)(1), “Alternative and facility specific NOX emission limits,” allows owners and operators of major sources of NOX, upon approval of the NJDEP, to obtain FSELs for maximum allowable NOX emission rates by submitting a NOX control plan that meets the requirements of N.J.A.C. 7:27-19.13(b). Furthermore, Subchapter N.J.A.C. 7:27-19.13(a)(3) allows facilities that wish to continue to operate under existing NOX control plans that were approved prior to May 1, 2005 to make the request by submitting an updated proposed NOX control plan as required in N.J.A.C. 7:27-19.13. The Sayreville Facility wishes to continue to operate under its existing NOX control plan that was approved by the State on March 15, 2005. A full summary is included in the technical support document (TSD) that is contained in EPA's docket assigned to this Federal Register notice.

Please note that on December 5, 2018, the NJDEP approved an administrative amendment reflecting new ownership and name change of the Sayreville Facility from Gerdau Ameristeel to Commercial Metals Company. All control options for the Sayreville BRF and CAA permit limits (as approved by the NJDEP in the March 2005 NOX control plan) remain the same under the new ownership as were under the former owner Gerdau Ameristeel.

II. The EPA's Evaluation of New Jersey's Submittals

N.J.A.C. 19.13(a)(3) sets forth requirements for facilities that wish to continue to operate under existing NOX control plans that were approved prior to May 1, 2005. The regulation requires such facilities to submit updated proposed NOX control plans to NJDEP for review. Gerdau Ameristeel originally submitted an FSEL NOX control plan for a BRF (old BRF) at the Sayreville Facility to NJDEP in 1995. In 2004, the facility submitted to NJDEP a proposed FSEL NOX control plan for a replacement BRF; the new unit was designed with 64 ultra-low NOX burners. On March 15, 2005, the NJDEP approved the NOX control plan by authorizing Gerdau Ameristeel to replace the old BRF with the ultra-low NOX burners.

On October 4, 2016, the Gerdau Ameristeel submitted an updated proposed NOX control plan to NJDEP requesting to continue to operate the March 15, 2005 NOX control plan for the Sayreville BRF that has 64 ultra-low NOX burners and maximum allowable NOX emission rate of 58.9 tons per year (TPY). On March 20, 2018, the NJDEP submitted to the EPA a proposal to allow the continued use of the control options as outlined in the State approved Gerdau Ameristeel March 15, 2005 NOX control plan.

The Sayreville BRF has a heat input rating of 172.8 million British Thermal Units per hour (MMBTU/hr) and is permitted under the facility's CAA Title V operating permit (i.e., PI 18052, BOP 150001) for no more than 0.1 MMBTU/hr of NOX as a major source with FSEL not to exceed 17.3 pounds NOX per hour and 58.9 tons NOX per year. The Sayreville Facility is required to conduct annual emission testing to demonstrate compliance with 0.1 lb/MMBtu NOX emission rate limit. The EPA has determined that the Sayreville BRF identified in the SIP revision are consistent with New Jersey's NOX RACT regulation and the EPA's guidance.

III. Comments Received in Response to EPA's Proposed Action

On March 21, 2019 (84 FR 10458) the EPA proposed approval of the source-specific revision to the New Jersey SIP for 8-hour ozone for Gerdau Ameristeel in Sayreville, New Jersey. The EPA received no public comments during the 30-day public comment period in response to the March 9, 2019 proposal.

IV. Summary of EPA's Final Action

Gerdau Ameristeel reached agreement with the NJDEP to continue to operate under the approved March 15, 2005 NOX control plan that allowed the Sayreville BRF to operate using 64 ultra-low NOX burners. The Sayreville Facility underwent a change in ownership to the Commercial Metals Company without changing its production process or associated equipment. Moreover, the Sayreville Facility met the regulatory requirements under N.J.A.C. 19.13(a)(3) to submit and obtain NJDEP approval for an updated proposed NOX control plan requesting to continue to operate under their 2005 NOX control plan approved prior to May 1, 2005. The updated NOX control plan demonstrates that the only technically feasible control technology currently not in use on the Sayreville BRF is the SCR option and concludes that it is not RACT. Therefore, the EPA is approving the NJDEP SIP revision for 8-hour ozone for Commercial Metals Company continuing to operate under the 2005 NOX Control Plan.

V. Incorporation by Reference

In this document, the EPA is finalizing regulatory text that includes incorporation by reference. In accordance with requirements of 1 CFR 51.5, the EPA is finalizing incorporate by reference for the provisions described above in Section IV. Summary of the EPA's Final Action.

The EPA has made, and will continue to make, these materials generally available through www.regulations.gov and at the EPA Region 2 Office. Copies of the materials incorporated may be inspected at the Environmental Protection Agency, Region 2, Air Programs Branch, 290 Broadway, New York, New York 10007. Please contact the person identified in the For Further Information Contact section of this preamble for more information.

Therefore, these materials have been approved by the EPA for inclusion in the State implementation plan, have been incorporated by reference by the EPA into that plan, are fully federally enforceable under sections 110 and 113 of the CAA as of the effective date of the final rulemaking of the EPA's approval, and will be incorporated by reference in the next update to the SIP compilation.

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely proposes to approve state law as meeting Federal requirements and does not impose additional requirements beyond those imposed by state law. For that reason, this proposed action:

• Is not a “significant regulatory action” subject to review by the Office of Management and Budget under Executive Order 12866 (58 FR 51735, October 4, 1993) and 13563 (76 FR 3821, January 21, 2011);

• is not an Executive Order 13771 (82 FR 9339, February 2, 2017) regulatory action because SIP approvals are exempted under Executive Order 12866;

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Public Law 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this proposed rule does not have tribal implications as specified by Executive Order 13175, because the SIP is not approved to apply in Indian country located in the state, and EPA notes that it will not impose substantial direct costs on tribal governments or preempt tribal law. Thus, Executive Order 13175 does not apply to this action.

List of Subjects 40 CFR Part 52

Environmental protection, Air pollution control, Incorporation by reference, Nitrogen Dioxide, Intergovernmental Relations, Ozone, Reporting and recordkeeping requirements.

Authority: 42 U.S.C. 7401 et seq.

Dated: May 15, 2019.
Peter D. Lopez,
Regional Administrator, Region 2.

Part 52, chapter I, title 40 of the Code of Federal Regulations is amended as follows:

PART 52—APPROVAL AND PROMULGATION OF IMPLEMENTATION PLANS

1. The authority citation for part 52 continues to read as follows:

Authority: 42 U.S.C. 7401 et seq.

Subpart FF—New Jersey

2. Section 52.1570 (d) is amended by adding the entries for “Gerdau Ameristeel Sayreville” and “CMC Steel New Jersey” at the end of the table. The additions read as follows:

§ 52.1570 Identification of plan.

* * * * *

(d) * * *

EPA-Approved New Jersey Source-Specific Provisions
Name of source | Identifier No. | State effective date | EPA approval date | Comments
* * * * * * *
Gerdau Ameristeel Sayreville | Program Interest 18052; Activity Number BOP 150001; Emission Unit U2; Operating Scenario OS301; Ref #2 | March 26, 2018 | May 30, 2019, [Insert FR citation] | None.
CMC Steel New Jersey | Program Interest 18052; Activity Number BOP 180001; Emission Unit U2; Operating Scenario OS301; Ref #2 | December 5, 2018 | May 30, 2019, [Insert FR citation] | New ownership from Gerdau Ameristeel Sayreville to Commercial Metal Company (CMC).

[FR Doc. 2019-11181 Filed 5-29-19; 8:45 am]

BILLING CODE 6560-50-P